SOCIAL SECURITY ADMINISTRATION

[Docket No. SSA 2017-0027]

Privacy Act of 1974; Matching Program

AGENCY: Social Security Administration (SSA)

ACTION: Notice of a New Matching Program.

SUMMARY: In accordance with the provisions of the Privacy Act, as amended, this notice announces a new computer matching program that we are currently conducting with the Department of Homeland Security (DHS).

DATES: The deadline to submit comments on the proposed matching program is 30 days from the date of publication of this notice. The matching program will be effective on July 19, 2017, or once a minimum of 30 days after the publication of this notice has elapsed, whichever is later. The matching program will expire on January 18, 2019.

ADDRESSES: Interested parties may comment on this notice by either telefaxing to (410) 966-0869, writing to Mary Ann Zimmerman, Acting Executive Director, Office of Privacy and Disclosure, Office of the General Counsel, Social Security Administration, 617 Altmeyer Building, 6401 Security Boulevard, Baltimore, MD 21235-6401, or emailing to Mary.Ann.Zimmerman@ssa.gov. All comments received will be available for public inspection at this address.

FOR FURTHER INFORMATION CONTACT: Interested parties may submit general questions about the matching program to Mary Ann Zimmerman, Acting Executive Director, Office of Privacy and Disclosure, Office of the General Counsel, by any of the means shown above.

SUPPLEMENTARY INFORMATION: The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

We have taken action to ensure that all of our computer matching programs comply with the requirements of the Privacy Act, as amended.

Mary Ann Zimmerman,
Acting Executive Director, Office of Privacy and Disclosure, Office of the General Counsel.

Participating Agencies: SSA and DHS

Authority for Conducting the Matching Program: The legal authority for this agreement is executed under the Privacy Act of 1974, 5 United States Code (U.S.C.) 552(a), as amended by the Computer Matching and Privacy Protection Act (CMPPA) of 1988, and the regulations and guidance promulgated thereunder.

Legal authorities for the disclosures under this agreement are 42 U.S.C. 402(n), 1382(f), 1382c(a)(1), and 1383(e)(1)(B) and (f); and 8 U.S.C. 1611 and 1612.

Section 1631(e)(1)(B) of the Social Security Act (hereafter the “Act”) (42 U.S.C. 1383(e)(1)(B)) requires SSA to verify declarations of applicants for and recipients of Supplemental Security Income (SSI) payments before making a determination of eligibility or payment amount. Section 1631(f) of the Act (42 U.S.C. 1383(f)) requires Federal agencies to provide SSA with information necessary to verify SSI eligibility or benefit amounts or to verify other information related to these determinations. Section 202(n)(2) of the Act (42 U.S.C. 402(n)(2)) requires the Secretary of Homeland Security to notify the Commissioner of Social Security when certain individuals are removed from the United States under sections 212(a)(6)(A) and 237(a) of the Immigration and Nationality Act (INA) (8 U.S.C. 1182(a)(6)(A) or 1227(a)).

A. Aliens Who Leave the United States Voluntarily

Resident aliens eligible for SSI may receive payments for any month in which they reside in the United States. Under section 1611(f) of the Act, an individual is ineligible for SSI benefits for any month during all of which he or she is outside the United States. The Act provides for limited exceptions to the general rule. See, e.g., 42 U.S.C. 1382(f)(1) (providing an exception for United States citizen children living with a parent who is a member of the military assigned to permanent duty outside the United States). 42 U.S.C. 1382(f) and 20 Code of Federal Regulations (CFR) 416.1327. Section 1611(f) further states that if an individual is absent from the United States for 30 consecutive days, SSA will treat the individual as remaining outside the United States until he or she has been in the United States for a period of 30 consecutive days.

B. Aliens Who Are Removed From the United States

The Social Security Protection Act of 2004, Pub. L. 108-203, amended the Act to expand the number of individuals who are subject to nonpayment of Social Security benefits. Thus, section 202(n)(1)(A) of the Act (42 U.S.C. 402(n)(1)(A)) prohibits payment of retirement or disability insurance benefits to number holders (NH) who have been removed from the United States on certain grounds specified under section 237(a) or section 212(a)(6)(A) of the INA (8 U.S.C. 1182(a)(6)(A), 1227(a)). SSA will not pay monthly retirement or disability benefits to such NHs for the month after the month in which the Secretary of Homeland Security notifies SSA of the NH's removal or before the month in which the NH is subsequently lawfully admitted to the United States for permanent residence.

Section 202(n)(1)(B) of the Act (42 U.S.C. 402(n)(1)(B)) prohibits payment of auxiliary or survivors benefits to certain individuals who are entitled to such benefits on the record of a NH who has been removed from the United States on certain grounds as specified in the above paragraph. Nonpayment of benefits is applicable for any month such auxiliary or survivor beneficiary is not a citizen of the United States and is outside the United States for any part of the month. Benefits cannot be initiated (or resumed) to such auxiliary or survivor beneficiaries who are otherwise subject to nonpayment under these provisions until the removed NH has been subsequently lawfully admitted for permanent residence to the United States.

In addition, certain individuals may be subject to suspension of their SSI payments under section 1614(a)(1)(B)(i) of the Act (42 U.S.C. 1382c(a)(1)(B)(i)), which provides, in part, that an SSI recipient must be a resident of the United States. Further, if an SSI recipient is not a United States citizen, 8 U.S.C. 1611 and 1612 provide that an alien who is not a qualified alien within the statutory definitions applicable to those sections is ineligible for SSI benefits, and an alien who is a qualified alien will have limited eligibility.

Purpose(s): The purpose of this matching program is to set forth the terms, conditions, and safeguards under which DHS will disclose information to us identifying aliens who leave the United States voluntarily and aliens who are removed from the United States. These aliens may be subject to suspension of payments or nonpayment of benefits or both, and recovery of overpayments. We will use DHS data to determine if suspension of payments, nonpayment of benefits, and/or recovery of overpayments, is applicable.

Categories of Individuals: The individuals whose information is involved in this matching program are:

Aliens who leave the United States voluntarily and are subject to suspension or non-payment of SSI.

Aliens who are removed from the United States and subject to suspension or non-payment of retirement, survivors, and disability insurance benefits and SSI payments. In certain situations, payment of auxiliary or survivors benefits to certain individuals who are entitled to such benefits on the record of a number holder who has been removed from the United States on certain grounds is prohibited.

Categories of Records:

Aliens Who Leave the United States Voluntarily

The data elements furnished by the DHS BIS System are the alien's name, SSN, date of birth (DOB), Alien Registration Number (“A” number), date of departure, and expected length of stay. To verify the SSN, SSA will match BIS data against the name, DOB, and SSN in SSA's Enumeration System. SSA will store and match verified SSNs against the same elements in the SSR files.

Aliens Who Are Removed From the United States

The data elements furnished from EID are the individual's name and alias (if any), SSN (if available), DOB, country of birth, country to which removed, date of removal, the final removal charge code, and DHS Alien Registration Number (“A” number).

To verify the SSN, SSA will match EID data against records in its Enumeration System. SSA matches the verified SSNs against the existing MBR and SSR records to locate removals (and their dependents or survivors, if any) who have already claimed and are currently receiving RSDI or SSI benefits, or both. SSA will retain the data verified through this matching program on the MBR and SSR, to be associated with future claims activity

System(s) of Records:

Aliens Who Leave the United States Voluntarily (SSI)

DHS will disclose to SSA information from the BIS system of records, DHS/USCIS-007, 73 FR 56596 (September 29, 2008). DHS will electronically format the BIS data for transmission to SSA. BIS data is comprised of data collected from USCIS immigration systems. USCIS data used to accomplish this matching agreement currently comes from the CLAIMS 3 database.

SSA will match the DHS information with SSA's systems of records: Master Files of Social Security Number (SSN) Holders and SSN Applications (the Enumeration System), 60-0058, 75 FR 82121 (December 29, 2010), and the Supplemental Security Income Record and Special Veterans Benefits (SSR), 60-0103, 71 FR 1830 (January 11, 2006).

Aliens Who Are Removed From the United States (RSDI and SSI)

DHS will retrieve information on removed aliens from the DHS database known as the EID and electronically format it for transmission to SSA. These individuals are not U.S. citizens or Legally Permanent Residents and thus not covered by the Privacy Act or DHS system of records.

The SSA systems of records used in the match are the Master Files of Social Security Number (SSN) Holders and SSN Applications (the Enumeration System), SSA/OEEAS, 60-0058, 75 FR 82121 (December 29, 2010), the Supplemental Security Income Record and Special Veterans Benefits (SSR), 60-0103, 71 FR 1830 (January 11, 2006), the Master Beneficiary Record (MBR), 60-0090, 71 FR 1826 (January 11, 2006) and the Prisoner Update Processing System (PUPS), 60-0269, 64 FR 11076 (March 8, 1999). The Unverified Prisoner System (UPS) is a subsystem of PUPS. UPS users perform a manual search of fallout cases where the Enumeration and Verification System is unable to locate an SSN for an alien who has been removed.

Under an existing Interagency Agreement (IAA) between SSA and DHS, SSA has automated access to the DHS Systematic Alien Verification for Entitlements (SAVE) program, DHS-USCIS-004, 81 FR 78619 (November 8, 2016) that utilizes the Verification Information System. This system provides information on the current immigration status of aliens who have Alien Registration Numbers (“A” numbers). SSA will use the automated access to the SAVE program to verify current immigration status of aliens where the immediate EID match or any future claims activity indicate an alien has been removed. The parties do not consider this verification as a separate match subject to the provisions of the CMPPA; the parties will conduct such verifications in compliance with the terms of the aforementioned IAA.

The systems of records involved in this computer matching program have routine uses permitting the disclosures needed to conduct this match.

[FR Doc. 2017-23389 Filed 10-26-17; 8:45 am]

BILLING CODE 4191-02-P